Title 3—

The President

Proclamation 7329 of July 7, 2000

President Lincoln and Soldiers' Home National Monument

By the President of the United States of America

A Proclamation

Each year from 1862 through 1864, President Abraham Lincoln and his family left the White House to take up residence during the warm weather months at Anderson Cottage, a home in northwest Washington, D.C., on the grounds of a site then known as the Soldiers' Home. It is estimated that President Lincoln spent one quarter of his presidency at this home, riding out to it many evenings from late June until early November. The house and surrounding land are now part of the U.S. Soldiers' and Airmen's Home, a component of the Armed Forces Retirement Home, an independent establishment in the executive branch. This house and its grounds are objects of great historic significance and interest.

It was here, in September of 1862, that President Lincoln completed the drafting of the Emancipation Proclamation. His second floor bedroom and much of the rest of the house are configured as they were when he was in residence, and original mantels, woodwork, and windows are retained. A magnificent copper beech tree under which he read and relaxed is still growing at the site. It was also from this house that, in July of 1864, he traveled 2 miles north to view the battle of Fort Stevens, during which he actually came under fire as he stood beside the Union troops defending the capital. The house has been designated a National Historic Landmark by the National Park Service.

The land was purchased by the Federal Government through the Soldiers' Home Trust Fund in 1851 to establish a home for invalid and disabled soldiers of the U.S. Army, the first such attempt to provide for members of the regular army. The house was first used as a summer retreat by President Buchanan from 1857 to 1860, and continued to be used as such by several presidents, including President Hayes from 1877 to 1880 and President Arthur from 1882 to 1884. It became known as Anderson Cottage in honor of Major Robert Anderson, the Union commanding officer at Fort Sumter at the outbreak of the Civil War.

Section 2 of the Act of June 8, 1906 (34 Stat. 225, 16 U.S.C. 431), authorizes the President, in his discretion, to declare by public proclamation historic landmarks, historic and prehistoric structures, and other objects of historic or scientific interest that are situated upon the lands owned or controlled by the Government of the United States to be national monuments, and to reserve as a part thereof parcels of lands, the limits of which in all cases shall be confined to the smallest area compatible with the proper care and management of the objects to be protected.

WHEREAS it appears that it would be in the public interest to reserve such lands as a national monument to be known as the President Lincoln and Soldiers' Home National Monument:

NOW, THEREFORE, I, William J. Clinton, President of the United States of America, by the authority vested in me by section 2 of the Act of June 8, 1906 (34 Stat. 225, 16 U.S.C. 431), do proclaim that there are hereby set apart and reserved as the President Lincoln and Soldiers' Home National Monument for the purpose of protecting the objects identified above, all lands and interests in lands owned or controlled by the United States within the boundaries of the area described on the map entitled “President Lincoln and Soldiers' Home National Monument” attached to and forming a part of this proclamation. The Federal land and interests in land reserved consist of approximately 2.3 acres, which is the smallest area compatible with the proper care and management of the objects to be protected.

All Federal lands and interests in lands within the boundaries of this monument are hereby appropriated and withdrawn from all forms of entry, location, selection, sale, or leasing or other disposition under the public land or other Federal laws, including but not limited to withdrawal from location, entry, and patent under the mining laws, and from disposition under all laws relating to mineral and geothermal leasing.

The monument historically has been a part of the U.S. Soldiers' and Airmen's Home, a facility administered by the Armed Forces Retirement Home, an independent establishment of the Executive Branch. The Armed Forces Retirement Home, through the U.S. Soldiers' and Airmen's Home, shall manage the monument as an integral part of that surrounding facility and consistent with the purposes and provisions of this proclamation. In managing the monument, the Armed Forces Retirement Home shall consult with the Secretary of the Interior through the National Park Service.

For the purpose of preserving, restoring, and enhancing the public's appreciation of the monument, the Armed Forces Retirement Home shall prepare, in consultation with the Secretary of the Interior through the National Park Service, a management plan for this monument within 3 years of this date. Further, to the extent authorized, the Armed Forces Retirement Home shall promulgate, in consultation with the Secretary of the Interior through the National Park Service, regulations for the proper care and management of the objects identified above.

Nothing in this proclamation shall be deemed to revoke any existing withdrawal, reservation, or appropriation; however, the national monument shall be the dominant reservation. Warning is hereby given to all unauthorized persons not to appropriate, injure, destroy, or remove any feature of this monument and not to locate or settle upon any of the lands thereof.

IN WITNESS WHEREOF, I have hereunto set my hand this seventh day of July, in the year of our Lord two thousand, and of the Independence of the United States of America the two hundred and twenty-fifth.

wj

Billing code 3195-01-P

[FR Doc. 00-17979

Filed 7-12-00; 8:45 am]

Billing code 3195-01-C